FEDERAL RESERVE SYSTEM

Notice of Proposals to Engage in Permissible Nonbanking Activities or to Acquire Companies that are Engaged in Permissible Nonbanking Activities; Correction

This notice corrects a notice (FR Doc. 04-14290) published on page 35347 of the issue for Thursday, June 24, 2004.

Under the Federal Reserve Bank of Chicago heading, the entry for Associated Banc-Corp., Green Bay, Wisconsin, is revised to read as follows:

A. Federal Reserve Bank of Chicago (Patrick Wilder, Assistant Vice President) 230 South LaSalle Street, Chicago, Illinois 60690-1414:

1. Associated Banc-Corp, Green Bay, Wisconsin; to acquire First Federal Capital Corporation, Lacrosse, Wisconsin, and thereby engage in operating a savings and loan association, and in credit insurance activities, pursuant to sections 225.28 (b)(4)(ii) and (b)(11)(i) of Regulation Y.

Comments on this application must be received by July 19, 2004.

Board of Governors of the Federal Reserve System, June 25, 2004.
Jennifer J. Johnson,
Secretary of the Board.

[FR Doc. 04-14894 Filed 6-30-04; 8:45 am]

BILLING CODE 6210-01-S